DEPARTMENT OF JUSTICE

Bureau of Alcohol, Tobacco, Firearms and Explosives

[OMB Number 1140-NEW]

Agency Information Collection Activities: Proposed Collection; Comments Requested

ACTION: 60-Day Emergency Notice of Information Collection Under Review: Prevent All Cigarette Trafficking (PACT) Act Registration Form.

The Department of Justice (DOJ), Bureau of Alcohol, Tobacco, Firearms and Explosives (ATF), will be submitting the following information collection request to the Office of Management and Budget (OMB) for review and clearance in accordance with emergency review procedures of the Paperwork Reduction Act of 1995. OMB approval has been requested by July 06, 2010. The proposed information collection is published to obtain comments from the public and affected agencies. If granted, the emergency approval is only valid for 180 days. Comments should be directed to OMB, Office of Information and Regulation Affairs, Attention: Department of Justice Desk Officer (202) 395-6466, Washington, DC 20503.

During the first 60 days of this same review period, a regular review of this information collection is also being undertaken. All comments and suggestions, or questions regarding additional information, to include obtaining a copy of the proposed information collection instrument with instructions, should be directed to Crisanto Perez, Jr., Division Chief, Alcohol and Tobacco Diversion Division, Bureau of Alcohol, Tobacco, Firearms and Explosives, Room 7S-251, 99 New York Avenue, NE., Washington DC 20226.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

(1) Type of information collection: New.

(2) The title of the form/collection: Prevent All Cigarette Trafficking (PACT) Act Registration Form.

(3) The agency form number, if any, and the applicable component of the department sponsoring the collection: Form Number: ATF F 5070.1. Bureau of Alcohol, Tobacco, Firearms and Explosives.

(4) Affected public who will be asked or required to respond, as well as a brief abstract: Primary: Business or For-Profit. Other: None. The purpose of the information collection is to register delivery sellers of cigarettes and/or smokeless tobacco products with the Attorney General in order to continue to sell and/or advertise these tobacco products. Respondents will register the information on ATF F 5070.1.

(5) An estimate of the total number of respondents and the amount of time estimated for an average respondent to respond/reply: It is estimated that 3,000 respondents will take 1 hour to complete the form.

(6) An estimate of the total public burden (in hours) associated with the collection: The estimated total public burden associated with this information collection is 3,000 hours.

If additional information is required contact: Lynn Bryant, Department Clearance Officer, Policy and Planning Staff, Justice Management Division, United States Department of Justice, 145 N Street, NE., Two Constitution Square, Suite 2E-502, Washington, DC 20530.

Dated: June 22, 2010.
Lynn Bryant,
Department Clearance Officer, PRA, United States Department of Justice.

[FR Doc. 2010-15451 Filed 6-24-10; 8:45 am]

BILLING CODE 4410-FY-P